DEPARTMENT OF HOUSING AND URBAN DEVELOPMENT

[Docket No. FR-5191-N-05]

Notice of Proposed Information Collection: Comment Request; Disposition of HUD-Owned Single Family Assets in Asset Control Areas

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: May 19, 2008.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202) 402-8048.

FOR FURTHER INFORMATION CONTACT: Vance T. Morris, Director, Office of Single Family Program Development, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Single Family Housing—Disposition of HUD-Owned Single Family Assets in Asset Control Areas.

OMB Control Number, if applicable: 2502-NEW.

Description of the need for the information and proposed use:

The proposed rule would promulgate regulations for HUD's “Asset Control Areas” (ACA) program. The ACA program permits the sale of HUD-held single-family homes and mortgage assets available for sale at a discount to units of general local government, states, Indian tribes, nonprofit organizations and for-profit entities to provide homeownership opportunities and to promote neighborhood revitalization.

The information requested is required for the administration and oversight of the ACA program. Specifically, HUD will be able to ascertain whether ACA participants are adhering to eligible purchaser, rehabilitation, resale price, etc. requirements imposed by HUD as a condition of receiving ACA properties at a discount.

Agency form numbers, if applicable: None.

Estimation of the total numbers of hours needed to prepare the information collection including number of respondents, frequency of response, and hours of response: The number of burden hours is 2,091. The number of respondents is 18, the total number of annual responses is 360, the frequency of response is on occasion, and the average burden hour per response is 6.

Status of the proposed information collection: This is a new collection.

Authority: The Paperwork Reduction Act of 1995, 44 U.S.C., Chapter 35, as amended.

Dated: March 12, 2008.
Frank L. Davis,
General Deputy Assistant Secretary for Housing-Deputy Federal Housing Commissioner.

[FR Doc. E8-5366 Filed 3-17-08; 8:45 am]

BILLING CODE 4210-67-P